DEPARTMENT OF COMMERCE

National Oceanic and Atmospheric Administration

Approval of a Boundary Expansion for the Guana Tolomato Matanzas National Estuarine Research Reserve

AGENCY: Office for Coastal Management, National Ocean Service, National Oceanic and Atmospheric Administration, U.S. Department of Commerce.

ACTION: Notice of approval of boundary expansion and availability of a final environmental assessment; finding of no significant impact.

SUMMARY: In accordance with applicable federal regulations, notice is hereby given that NOAA's Office for Coastal Management approved the final environmental assessment of a proposed boundary expansion for the Guana Tolomato Matanzas (GTM) National Estuarine Research Reserve in Florida. NOAA determined that the boundary expansion would not have significant environmental impacts and, therefore, issued a finding of no significant impact (FONSI). The final environmental assessment describes the alternatives considered, including the preferred alternative to add three parcels to the existing approved boundary, which would result in a net increase in size of 3,346.44 acres to the boundary. NOAA prepared a draft environmental assessment to analyze the effects of the requested expansion and solicited public comment before approving the request. The purpose of this notice is to inform the public of NOAA's approval of the boundary expansion and of the availability of the final environmental assessment.

ADDRESSES: The final environmental assessment and FONSI can be downloaded or viewed at https://coast.noaa.gov/czm/compliance/. The document is also available by sending a written request to the point of contact identified below.

FOR FURTHER INFORMATION CONTACT: Stephanie Robinson of NOAA's Office for Coastal Management by email at steph.robinson@noaa.gov, phone at (843) 740-1174, or mail at 2234 South Hobson Avenue, Charleston, SC 29405.

(Authority: 16 U.S.C. 1451 et seq.)

Keelin S. Kuipers,
Deputy Director, Office for Coastal Management, National Ocean Service, National Oceanic and Atmospheric Administration.

[FR Doc. 2020-04731 Filed 3-6-20; 8:45 am]

BILLING CODE 3510-08-P